DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway project, the United States (US) 101 Express Lanes Project from Post Miles 16.00 to 52.55 on US 101, and Post Miles 23.0 to 24.1 on State Route 85 in the County of Santa Clara, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 25, 2016. If the Federal law that authorizes judicial review of a claim provides a time period of less than 150 days for filing such claim, then that shorter time period still applies.

FOR FURTHER INFORMATION CONTACT: For Caltrans: Cristin Hallissy, Branch Chief, Environmental Analysis Branch, California Department of Transportation, District 4, 111 Grand Avenue, Oakland, CA 94612; telephone 510-622-8717; email cristin.hallissy@dot.ca.gov. Normal business hours for the Environmental Analysis Branch are 8:30 a.m. to 5:00 p.m. (Pacific Time).

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The US 101 Express Lanes Project would convert the existing northbound and southbound High-Occupancy Vehicle (HOV) lanes on US 101 to express lanes and add a second express lane in both directions between Cochrane Road in Morgan Hill to State Route 85 in San Jose, and between Blossom Hill Road in San Jose and North Fair Oaks Avenue in Sunnyvale. The conversion of the HOV lanes to express lanes would allow single-occupant vehicles (SOVs) to pay a toll to use the lanes, while HOVs would continue to use the lanes for free. The purpose of the project is to manage traffic in the congested HOV segments of the US 101 freeway between SR 85 and Oregon Expressway/Embarcadero Road, and maintain consistency with provisions defined in AB 2032 (2004) and AB 574 (2007) to implement express lanes in an HOV lane system in Santa Clara County.

The express lanes would extend 36.55 miles in length on US 101 from Cochrane Road in Morgan Hill to Oregon Expressway/Embarcadero Road in Palo Alto and 1.1 miles of SR-85 from the northern end of SR 85 to the US 101/SR-85 interchange in Mountain View. The project would also convert the SR 85/US 101 HOV direct connectors in Mountain View to express lane connectors and add auxiliary lanes in both directions on US 101 between Great America Parkway and Lawrence Expressway, and in the northbound direction between Old Bayshore Freeway and North First Street. The total project length is 37.65 miles.

The actions by the Federal agencies, and the laws under which such actions were taken, are described in the Final Environmental Assessment (EA)/Finding of No Significant Impact (FONSI) for the project, approved on July 21, 2015, and in other documents in the Caltrans project records. The EA/FONSI and other project records are available by contacting Caltrans at the addresses provided above. The Caltrans EA/FONSI can be viewed and downloaded from the project Web site at http://www.dot.ca.gov/dist4/envdocs.htm#santaclara.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air Quality: Clean Air Act [42 U.S.C. 7401-7671(q)].

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archaeological Resources Protection Act of 1977 [16 U.S.C. 470(aa)-470(ll)].

5. Social and Economic: Civil Rights Act of 1964 [42 U.S.C. 2000(d)-2000(d)(1)].

6. Wetlands and Water Resources: Clean Water Act (Section 404, Section 401, Section 319) [33 U.S.C. 1251-1377].

7. Hazardous Waste: Comprehensive Environmental Response, Compensation and Liability Act of 1980 [42 U.S.C. 9601-9628]; Toxic Substances Control Act [15 U.S.C. 2601-2629]; Federal Insecticide, Fungicide, and Rodenticide Act [7 U.S.C. 121-134]; Occupational Safety and Health Act [29 U.S.C. 651]; Resource Conservation and Recovery Act of 1976 [42 U.S.C. 6901].

9. Executive Orders: E.O. 11988, Floodplain Management; E.O. 12898, Federal Actions to Address Environmental Justice in Minority Populations and Low Income Populations; E.O. 13112, Invasive Species; E.O. 12088, Federal Compliance with Pollution Control Standards.

(Catalog of Federal Domestic Assistance Program Number 20.205, Highway Planning and Construction. The regulations implementing Executive Order 12372 regarding intergovernmental consultation on Federal programs and activities apply to this program.)

Authority: 23 U.S.C. 139(l)(1).

Matthew Schmitz,
Director, Project Delivery, Federal Highway Administration, Sacramento, California.

[FR Doc. 2015-24569 Filed 9-25-15; 8:45 am]

BILLING CODE 4910-RY-P